FEDERAL COMMUNICATIONS COMMISSION

Notice of Public Information Collection Approved By the Office of Management and Budget

June 16, 2010.

SUMMARY: The Federal Communications Commission (FCC) has received the Office of Management and Budget (OMB) approval for the following public information collections pursuant to the Paperwork Reduction Act of 1995 (44 U.S.C. 3501-3520). An agency may not conduct or sponsor a collection of information unless it displays a currently valid OMB control number, and no person is required to respond to, a collection of information unless it displays a currently valid control number.

FOR FURTHER INFORMATION CONTACT: Cathy Williams on (202) 418-2918 or send an email to Cathy.Williams@fcc.gov.

SUPPLEMENTARY INFORMATION: OMB Control Number: 3060-1034.

OMB Approval Date: June 14, 2010.

OMB Expiration Date: June 30, 2013.

Title: Digital Audio Broadcasting Systems and their Impact on the Terrestrial Radio Broadcast Service; Digital Notification Form, FCC Form 335.

Form Number: FCC Form 335.

Number of Respondents and Responses: 1,310 respondents; 1,310 responses.

Estimated Time per Response: 1- 8 hours.

Frequency of Response: On occasion reporting requirement.

Obligation to Respond: Required to obtain or retain benefits. The statutory authority for this information collection is contained in Sections 154(i), 303, 310 and 533 of the Communications Act of 1934, as amended.

Total Annual Burden: 1,780 hours.

Total Annual Cost: $606,500.

Nature and Extent of Confidentiality: There is no need for confidentiality with this collection of information.

Needs and Uses: On January 29, 2010, the Commission released the Order, Digital Audio Broadcasting Systems and Their Impact on the Terrestrial Radio Broadcast Service (“Order”), DA 10-208, MM Docket 99-325. The Order will allow:

(1) Eligible authorized FM stations to commence operation of FM digital facilities with operating power up to -14 dB upon notice to the Commission on either Form 335 (the licensee of a super-powered FM station must file an informal request for any increase in the station's FM Digital ERP).

(2) Licensees to submit an application to the Media Bureau, in the form of an informal request, for any increase in FM Digital ERP beyond 6 dB.

(3) Licensees submitting such a request must use a simplified method set forth in the Order to determine the proponent station's maximum permissible FM Digital ERP.

(4) In situations where the simplified method is not applicable due to unusual terrain or other environmental or technical considerations or when it produces anomalous FM Digital ERP results, the Bureau will accept applications for FM Digital ERP in excess of -14 dB on a case-by-case basis when accompanied by a detailed showing containing a complete explanation of the prediction methodology used as well as data, maps and sample calculations.

(5) Finally, the Order implements interference mitigation and remediation procedures to resolve promptly allegations of digital interference to an authorized FM analog facility resulting from an FM Digital ERP power increase undertaken pursuant to the procedures adopted in the Order. Pursuant to these procedures, the affected analog FM station may file an interference complaint with the Bureau. In order to be considered by the Bureau, the complaint must contain at least six reports of ongoing (rather than transitory) objectionable interference. For each report of interference, the affected FM licensee must submit a map showing the location of the reported interference and a detailed description of the nature and extent of the interference being experienced at that location. Interference reports at locations outside a station's protected analog contour will not be considered. The complaint must also contain a complete description of the tests and equipment used to identity the alleged interference and the scope of the unsuccessful efforts to resolve the interference.

The following rule sections contain information collection requirements that have been approved by OMB and do not require any additional OMB approval because they did not change since last approved by OMB:

47 CFR 73.404(b) states in situations where interference to other stations is anticipated or actually occurs, AM licensees may, upon notification to the Commission, reduce the power of the primary Digital Audio Broadcasting (DAB) sidebands by up to 6 dB. Any greater reduction of sideband power requires prior authority from the Commission via the filing of a request for special temporary authority or an informal letter request for modification of license.

47 CFR 73.404(e) states licensees (commercial and noncommercial AM and FM radio stations) must provide notification to the Commission in Washington, DC, within 10 days of commencing in-band, on channel (IBOC) digital operation. The notification must include the following information:

(1) Call sign and facility identification number of the station;

(2) Date on which IBOC operation commenced;

(3) Certification that the IBOC DAB facilities conform to permissible hybrid specifications;

(4) Name and telephone number of a technical representative the Commission can call in the event of interference;

(5) FM digital effective radiated power used and certification that the FM analog effective radiated power remains as authorized;

(6) Transmitter power output; if separate analog and digital transmitters are used, the power output for each transmitter;

(7) If applicable, any reduction in an AM station's primary digital carriers;

(8) If applicable, the geographic coordinates, elevation data, and license file number of the auxiliary antenna employed by an FM station as a separate digital antenna;

(9) If applicable, for FM systems employing interleaved antenna bays, a certification that adequate filtering and/or isolation equipment has been installed to prevent spurious emissions in excess of the limits specified in Section 73.317;

(10) A certification that the operation will not cause human exposure to levels of radio frequency radiation in excess of the limits specified in Section 1.1310 of the Commission's rules and is therefore categorically excluded from environmental processing pursuant to Section 1306(b). Any station that cannot certify compliance must submit an environmental assessment (“EA”) pursuant to Section 1.1311 and may not commence IBOC operation until such EA is ruled upon by the Commission.

Federal Communications Commission.
Marlene H. Dortch,
Secretary,
Office of the Secretary,
Office of Managing Director.

[FR Doc. 2010-14898 Filed 6-18-10; 8:45 am]

BILLING CODE 6712-01-S